DEPARTMENT OF COMMERCE

National Oceanic and Atmospheric Administration

50 CFR Part 660

[RTID 0648-XC119]

Fisheries Off West Coast States; West Coast Salmon Fisheries; Amendment 23 to the Pacific Coast Salmon Fishery Management Plan

AGENCY: National Marine Fisheries Service (NMFS), National Oceanic and Atmospheric Administration (NOAA), Commerce.

ACTION: Announcement of availability of fishery management plan amendment and associated Environmental Assessment; request for comments.

SUMMARY: The Pacific Fishery Management Council (Council) has submitted Amendment 23 to the Pacific Coast Salmon Fishery Management Plan (Salmon FMP) to the Secretary of Commerce for review. If approved, Amendment 23 would amend the Salmon FMP's current harvest control rule (HCR) for the Southern Oregon/Northern California Coast (SONCC) Coho Salmon Evolutionarily Significant Unit (ESU).

DATES: Comments on Amendment 23 must be received by October 17, 2022. Comments on the accompanying Environmental Assessment must be received by October 3, 2022.

ADDRESSES: You may submit comments on Amendment 23, identified by NOAA-NMFS-2022-0065, by the following method:

• Electronic Submissions: Submit all electronic public comments via the Federal e-Rulemaking Portal. Go to www.regulations.gov and enter NOAA-NMFS-2022-0065 in the Search box. Click the “Comment” icon, complete the required fields, and enter or attach your comments.

You may submit comments on the Environmental Assessment, identified by RTID 0648-XC119, by the following method:

• Electronic Submissions: Submit all electronic public comments via electronic mail to the address: salmon.harvest.comments@noaa.gov. Include in the summary of your email “Comment SONCC EA”, and enter or attach your comments.

Instructions: Comments must be submitted by the above method to ensure that the comments are received, documented, and considered by NMFS by the applicable deadlines. Comments sent by any other method, to any other address or individual, or received after the end of the comment period, may not be considered. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous).

The draft Salmon FMP, as amended through Amendment 23, with notations showing how Amendment 23 would change the Salmon FMP, if approved, is available on the NMFS website at https://www.fisheries.noaa.gov/action/fisheries-west-coast-states-west-coast-salmon-fisheries-amendment-23-pacific-coast-salmon?check_logged_in=1.

The Council and NMFS prepared a draft Environmental Assessment. An electronic copy of this document may be obtained from the West Coast Regional Office website at https://www.fisheries.noaa.gov/west-coast/laws-and-policies/west-coast-region-national-environmental-policy-act-documents.

FOR FURTHER INFORMATION CONTACT: Shannon Penna at 562-980-4239.

SUPPLEMENTARY INFORMATION:

Background

The ocean salmon fisheries in the exclusive economic zone (EEZ) (3-200 nautical miles; 5.6-370.4 kilometers) off Washington, Oregon, and California are managed under the Salmon FMP. The Magnuson-Stevens Fishery Conservation and Management Act (MSA) requires that each regional fishery management council submit any fishery management plan (FMP) or plan amendment it prepares to NMFS for review and approval, disapproval, or partial approval by the Secretary of Commerce (Secretary) (MSA 304(a)). The MSA also requires that NMFS, upon receiving an FMP or plan amendment, immediately publish a notice that the FMP or plan amendment is available for public review and comment. Publication occurs on or before the fifth day after the day on which a Council transmits to the Secretary a FMP or plan amendment. This document announces that proposed Amendment 23 to the Salmon FMP is available for public review and comment. NMFS will consider the public comments received during the comment period described above in determining whether to approve, partially approve, or disapprove Amendment 23 to the Salmon FMP.

In 2018, the Hoopa Valley Tribe filed a lawsuit alleging a failure by NMFS to reinitiate Endangered Species Act (ESA) consultation regarding the impacts of ocean salmon fisheries on the SONCC Coho Salmon ESU. Coho salmon in the ESU are listed under the ESA and are caught incidentally in ocean salmon fisheries primarily targeting Chinook salmon. In March 2020, the parties reached a stipulated agreement to stay the litigation provided certain conditions were met, including a timeline by which NMFS would confer with the Council on completion of a new SONCC coho salmon harvest control rule (HCR) and a timeline for ESA consultation, as warranted on the effects of the control rule. HCRs guide how the Council develops annual management measures for ocean salmon fisheries.

In June 2020, the Council established the ad-hoc SONCC Coho Salmon Workgroup (Workgroup) and tasked it to develop a new control rule for the SONCC Coho Salmon ESU for Council consideration. In January 2022, based on the Workgroup's analysis,¹ the Council recommended two HCRs for the SONCC Coho Salmon ESU, developed through the Council process, for consideration by NMFS. In April 2022, NMFS completed an ESA consultation on NMFS's authorization of the ocean salmon fishery in the west coast EEZ (3-200 nautical miles; 5.6-370.4 kilometers) through approval of the FMP including proposed Amendment 23 and promulgation of regulations implementing the FMP. NMFS concluded that it would not jeopardize the ESU.

¹ The SONCC Workgroup's analysis report can be found on the NMFS website: https://www.fisheries.noaa.gov/west-coast/partners/southern-oregon-northern-california-coast-coho-working-group.

If approved, Amendment 23 would replace the current HCR with two new HCRs. The first would limit total fishery exploitation rates (ERs) on each of five individual representative population units within the SONCC coho salmon ESU to no more than 15 percent annually, except for the Trinity River population unit (represented by the Upper Trinity River, Lower Trinity River, and South Fork Trinity River populations). The second HCR would limit the total ER on the Trinity River population unit to 16 percent. Both HCRs account for all ocean and inland sources of fishery mortality annually and include landed and non-landed mortality of age-3 adult SONCC coho salmon.

During its annual salmon preseason planning process for developing recommended annual management measures governing ocean salmon fisheries, the Council would evaluate ocean salmon fisheries using the coho salmon Fishery Regulation Assessment Model (FRAM) so that, when combined with estimated freshwater impacts, the preseason projected total ERs would not exceed the adopted HCRs. The estimated freshwater impacts would be determined using projections provided by co-managing agencies (i.e., the Oregon Department of Fish and Wildlife, Yurok Tribe, Hoopa Valley Tribe, or California Department of Fish and Wildlife). Postseason ERs would be estimated for each year once postseason harvest and abundance estimates become available. Coho-directed salmon fisheries and retention of coho salmon in Chinook-directed salmon fisheries would remain prohibited in the EZZ seaward of California. Management measures implemented under Amendment 23 would be applied in concert with measures designed to meet other requirements of the FMP including conservation objectives and annual catch limits for specific salmon stocks and stock complexes.

All comments received by the end of the comment period (see DATES and ADDRESSES above) will be considered in the Secretary's decision to approve, disapprove, or partially approve Amendment 23. To be considered in this decision, comments must be received by close of business on the last day of the comment period; that does not mean postmarked or otherwise transmitted by that date.

Authority: 16 U.S.C. 1801 et seq.

Dated: August 15, 2022.
Kelly Denit,
Director, Office of Sustainable Fisheries, National Marine Fisheries Service.

[FR Doc. 2022-17805 Filed 8-17-22; 8:45 am]

BILLING CODE 3510-22-P